DEPARTMENT OF COMMERCE

Patent and Trademark Office

Privacy Act of 1974; System of Records

ACTION: Notice of revised Prefatory Statement of General Routine Uses.

SUMMARY: In accordance with the requirements of the Privacy Act of 1974, as amended, the United States Patent and Trademark Office (“USPTO” or “the Agency”) seeks to revise the Prefatory Statement of General Routine Uses (“prefatory statement”) published in the Federal Register on December 31, 1981 (46 FR 63501-63502). This action is being taken to update the language in several existing uses as well as to integrate new uses.

DATES: Written comments on the proposed prefatory statement revisions should be sent on or before April 18, 2016. The prefatory statement as revised below will become effective as of the above date unless the USPTO receives comments that would result in a contrary determination.

ADDRESSES: Written comments may be submitted by any of the following methods:

• Email: InformationCollection@uspto.gov. Include “USPTO Prefatory Statement—Comment” in the subject line of the message.

• Federal Rulemaking Portal: http://www.regulations.gov.

• Mail: Marcie Lovett, Director, Records Management Division, United States Patent and Trademark Office, P.O. Box 1450, Alexandria, VA 22313-1450.

SUPPLEMENTARY INFORMATION: The USPTO is giving notice of proposed revisions to the Agency's Prefatory Statement of General Routine Uses. The revisions update the language in multiple uses to remove outdated references and terms, restructure existing uses for clarity and brevity, and add routine uses designed to cover new technological uses (e.g. disclosures following system data breaches) and relevant uses not present in the previous prefatory statement (e.g. disclosures to state bar organizations). The following routine uses apply to, and are incorporated by reference into, each system of records utilized by the United States Patent and Trademark Office that is created or revised following the publication of this notice.

Prefatory Statement of General Routine Uses

A record from the referencing system of records may be disclosed, as a routine use, to:

1. A Federal, state, local, or foreign agency in the event that the system of records indicates a violation or potential violation of law, whether civil, criminal, or regulatory in nature, and whether arising by (1) general statute or particular program statute or contract, (2) rule, regulation, or order issued pursuant thereto, or (3) the necessity to protect an interest of the Agency. The agency receiving the record(s) must be charged with the responsibility of investigating or prosecuting such violations or with enforcing or implementing the statute, rule, regulation, or order issued pursuant thereto, or protecting the interest of the Agency.

2. A Federal, state or local agency maintaining civil, criminal, or other relevant enforcement information or other pertinent information, such as current licenses, if necessary to obtain information relevant to an Agency decision concerning (1) the assignment, hiring, or retention of an individual, (2) the issuance of a security clearance, (3) the letting of a contract, or (4) the issuance of a license, grant, or other benefit.

3. A court, magistrate, or administrative tribunal during the course of presenting evidence, including disclosures to opposing counsel or witnesses in the course of civil discovery, litigation, or settlement negotiations.

4. A Member of Congress or staff acting upon the Member's behalf when the Member or staff requests the information on behalf of, and at the request of, the individual who is the subject of the record.

5. The medical advisor of any individual who submits a request for access to a record which contains medical information under the Act and 37 CFR part 102 Subpart B if, in the sole judgment of the Agency, disclosure would not have an adverse effect upon the individual, under the provision of 5 U.S.C. 552a(f)(3) and implementing regulations at 37 CFR part 102 Subpart B.

6. Professional organizations or associations with which individuals covered by this system of records may be affiliated, such as state bar disciplinary authorities, to meet their responsibilities in connection with the administration and maintenance of standards of conduct and discipline.

7. The Office of Management and Budget (OMB), in connection with the review of private relief legislation as set forth in OMB Circular No. A-19 at any stage of the legislative coordination and clearance process.

8. The Department of Justice (DOJ), in connection with determining whether disclosure thereof is required by the Freedom of Information Act (5 U.S.C. 552).

9. Contractors, agents, grantees, experts, consultants, and others performing or working on a contract, service, grant, cooperative agreement, or other work assignment for the Agency who have need for information from the system of records:

a. In the course of operating or administrating the system of records;

b. In the course of fulfilling an agency function, but only to the extent necessary to fulfill that function; or

c. In order to fulfill their contract(s), but who do not operate the system of records within the meaning of 5 U.S.C. 552a(m).

10. The Office of Personnel Management (OPM), for personnel research purposes, as a data source for management information, for the production of summary descriptive statistics and analytical studies in support of the function for which the records are collected and maintained, or for related manpower studies.

11. The Administrator of the National Archives and Records Administration (NARA), or said administrator's designee, during an inspection of records conducted by NARA as part of that agency's responsibility to recommend improvements in records management practices and programs, under authority of 44 U.S.C. 2904 and 2906. Such disclosure shall be made in accordance with NARA regulations governing inspection of records for this purpose, and any other relevant directive. Such disclosure shall not be used to make determinations about individuals.

12. Appropriate agencies, entities, or persons when (1) the Agency suspects or has confirmed that the security or confidentiality of the information in the system of records has been compromised; (2) the Agency has determined that, as a result of the suspected or confirmed compromise, there is a risk of harm to economic or property interests, identity theft or fraud, or harm to the security or integrity of this system or other systems or programs (whether maintained by the Agency or another agency or entity) that rely upon the compromised information; and (3) such disclosure is reasonably necessary to assist in connection with the Agency's efforts to respond to the suspected or confirmed compromise and prevent, minimize, or remedy such harm.

13. Any component of the Department of Justice for the purpose of representing the Agency, or any employee of the Agency, in pending or potential litigation to which the record is pertinent.

Dated: March 3, 2016.
Marcie Lovett,
Records Management Division Director, OCIO, United States Patent and Trademark Office.

[FR Doc. 2016-05256 Filed 3-8-16; 8:45 am]

BILLING CODE 3510-16-P